DEPARTMENT OF THE INTERIOR

Bureau of Land Management

[18XL1109AF LLUT920000 L13100000 FI0000 25-7A]

Notice of Proposed Class II Reinstatement of Terminated Oil and Gas Lease UTU77328, Utah

AGENCY: Bureau of Land Management, Interior.

ACTION: Notice of reinstatement.

SUMMARY: In accordance with Section 31 of the Mineral Leasing Act of 1920, as amended, Berry Petroleum Company timely filed a petition for reinstatement of oil and gas lease UTU77328 for lands in Duchesne County, Utah, along with all required rentals and royalties accruing from July 1, 2014, the date of termination. The BLM proposes to reinstate the lease.

DATES: The BLM is proposing to reinstate the lease on March 5, 2018.

FOR FURTHER INFORMATION CONTACT: Kent Hoffman, Deputy State Director, Lands and Minerals, Utah State Office, Bureau of Land Management, 440 West 200 South, Suite 500, Salt Lake City, Utah, 84101, phone: 801-539-4063, email: khoffman@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The lessee has agreed to new lease terms for rental and royalty. The rental for UTU77328 will increase to $5 per acre or fraction thereof and the royalty will increase to 16⅔ percent. The $500 administrative fee for the leases has been paid, and the lessee has reimbursed the Bureau of Land Management (BLM) for the cost of publishing this notice.

The following-described lands in Duchesne County, Utah, include:

UTU77328

Uintah Meridian, Utah

T. 6 S., R 5 W.,

Sec. 7, excepting Patent No. 424727;

Sec. 8, excepting Patent No. 424727;

Sec. 18.

The area described contains 1,890.39 acres.

As the lessee has met all the requirements for reinstatement of the lease as set out in Section 31(d) and (e) of the Mineral Leasing Act of 1920 (30 U.S.C. 188), the BLM is proposing to reinstate the lease 30 days following publication of this notice, with the effective date of July 1, 2014, subject to the increased rental and royalty rates cited above. The lease is also subject to the following additional new terms and conditions:

(1) No Surface Occupancy Stipulation—Anthro Mountain Habitat Management Area;

(2) Cultural Resources Protection Stipulation;

(3) Threatened and Endangered Species Act Stipulation;

(4) Air Quality Mitigation Measures; and

(5) Federal Flood Risk Management Standard Lease Notice.

Authority: Mineral Leasing Act of 1920 (30 U.S.C. 188) 43 CFR 3108.2-3.

Edwin L. Roberson,
State Director.

[FR Doc. 2018-01944 Filed 1-31-18; 8:45 am]

BILLING CODE 4310-DQ-P